SMALL BUSINESS ADMINISTRATION

SBIC License Issuance

AGENCY: U.S. Small Business Administration.

ACTION: Notice of Small Business Investment Company (SBIC) licenses.

Pursuant to the authority granted to the United States Small Business Administration under section 301(c) of the Small Business Investment Act of 1958, as amended, to grant Small Business Investment Company licenses under the Small Business Investment Company Program, this notice satisfies the requirement effective August 17, 2023 under 13 CFR 107.501(a) to publish in the Federal Register the names of SBICs with date of licensure and Total Intended Leverage Commitments. The following SBICs received SBIC licenses from January 1, 2024, through June 30, 2024:

SBIC fund name | Date of licensure | Leverage tiers ¹
Brookside Capital Fund V SBIC, L.P | 1/3/2024 | 2.0x
Skyline Investors I, L.P | 3/21/2024 | 1.5x
Providence Investment Partners I, L.P | 4/3/2024 | 2.0x
Midwest Mezzanine Fund VII SBIC, L.P | 4/5/2024 | 2.0x
Salem Investment Partners VI, Limited Partnership | 4/12/2024 | 2.0x
Sound Growth Partners Fund I, L.P | 5/6/2024 | 2.0x
Mizzen Capital III, L.P | 5/29/2024 | 2.0x
Source Capital Credit Opportunities V, L.P | 6/5/2024 | 1.5x
Renovus Capital Partners IV SBIC, L.P | 6/14/2024 | 2.0x
¹ Maximum amount of Leverage expressed as a multiple of Leverageable Capital pursuant to 13 CFR 107.1150. For all SBIC Licensees that submitted a Management Assessment Questionnaire after August 17, 2023, the Notice of SBIC Licenses will include the Total Intended Leverage Commitment at the time of Licensure.

Bailey DeVries,
Associate Administrator, Office of Investment and Innovation, U.S. Small Business Administration.

[FR Doc. 2024-15224 Filed 7-10-24; 8:45 am]

BILLING CODE 8026-09-P